DEPARTMENT OF THE INTERIOR

National Park Service

Record of Decision on the Final Environmental Impact Statement for the General Management Plan, Rock Creek Park and the Rock Creek and Potomac Parkway, Washington, DC

AGENCY: Department of the Interior, National Park Service.

ACTION: Notice of availability of a Record of Decision on the Final Environmental Impact Statement for the General Management Plan, Rock Creek Park and the Rock Creek and Potomac Parkway, Washington, DC.

SUMMARY: Pursuant to the National Environmental Policy Act of 1969, 42 U.S.C. 4332(2)(C), the National Park Service (NPS) announces the availability of the Record of Decision for the Final Environmental Impact Statement for the General Management Plan, Rock Creek Park and the Rock Creek and Potomac Parkway, Washington, DC. On June 6, 2007 the National Capital Regional Director approved the Record of Decision for the General Management Plan for the Final Environmental Impact Statement. Specifically, the NPS has selected the preferred alternative (Alternative A) as described in the Final General Management Plan for the Environmental Impact Statement based on consideration of economic, environmental, technical, and other factors.

The selected alternative and three other alternatives, including a no-action alternative, were analyzed in the Draft and Final Environmental Impact Statements. Each alternative considered (a) how traffic should be managed in the park and on the parkway; (b) the most appropriate levels of service and locations for visitor interpretation and education in the park; (c) the appropriate balance between rehabilitation of historic structures and cultural landscapes and preservation of natural resources; and (d) the most appropriate locations to support park administration and operations functions to minimize resource disturbance. The full range of foreseeable environmental consequences was assessed. The NPS believes Alternative A would best accomplish its goals for managing Rock Creek Park and the Rock Creek and Potomac Parkway. Alternative A was selected by the NPS based on its ability to maintain traditional visitor experiences and activities, enhance resources protection, improve control over non-recreational use of park roads to heighten safety and the quality of the visitor experience, and optimize the use of structures for park purposes. The selected alternative will not result in the impairment of resources and values.

The most difficult decision to be made in this general management planning process was the management of traffic on the park road system because these park roads are recognized historic resources and are also the primary means for most visitors to experience the park. They are also heavily used as commuter routes. Under the selected alternative, the existing park roadway system will be retained and non-recreational through-traffic will be accommodated. It continues weekday auto travel throughout the park, but will use traffic-calming and speed enforcement measures to reduce traffic speeds and volumes to improve visitor safety and better control traffic volumes and speeds through the park. Speed tables and additional traffic signs will be installed on Beach Drive in the gorge area.

The selected alternative will also enhance interpretation and education opportunities and improve the use of park resources, especially cultural resources. It generally retains the current scope of visitor uses. Additional aspects of this alternative include trail improvement; rehabilitation of the Peirce Mill complex to better focus on history; the moving of park administrative offices from the Peirce-Klingle Mansion at Linnean Hill which will be rehabilitated for adaptive use compatible with park values; the relocation of the U.S. Park Police substation from the Lodge House on Beach Drive with the Lodge House converted to a visitor contact station; and that the nature center will be rehabilitated and expanded, and the planetarium upgraded.

The Record of Decision includes a statement of the decision made, synopses of other alternatives considered, the basis for the decision, a finding of no impairment of park resources and values and an overview of public involvement in the decision-making process. This decision is the result of a public planning process that began in 1996. The official responsible for this decision is the NPS Regional Director, National Capital Region.

ADDRESSES: The Record of Decision, Plan and other information are available for public review in the Office of the Superintendent, Rock Creek Park at 3545 Williamsburg Lane, NW., Washington, DC 20008-1207 and at the following locations: Chief of Planning, National Capital Region, National Park Service, 1100 Ohio Drive, SW., Washington, DC 20242, (202) 619-7000 and the Office of Public Affairs, National Park Service, Department of the Interior, 18th and C Streets, NW., Washington, DC 20240, (202) 208-6843. Copies of the Record of Decision may also be obtained from the contacts listed above or may be viewed online at: http://www.nps.gov/rocr/parkmgmt/.

FOR FURTHER INFORMATION CONTACT: Superintendent, Rock Creek Park, at 3545 Williamsburg Lane, NW., Washington, DC 20008-1207 or by telephone at (202) 895-6004.

Dated: August 24, 2007.
Joseph M. Lawler,
Regional Director, National Capital Region.

[FR Doc. E7-20544 Filed 10-17-07; 8:45 am]

BILLING CODE 4312-52-P